DEPARTMENT OF ENERGY

Federal Energy Regulatory Commission

Combined Notice of Filings #1

Take notice that the Commission received the following electric rate filings:

Docket Numbers: ER12-480-002.

Applicants: Midwest Independent Transmission System Operator, Inc.

Description: 05-21 to be effective 6/1/2013.

Filed Date: 5/21/12.

Accession Number: 20120521-5155.

Comments Due: 5 p.m. ET 6/11/12.

Docket Numbers: ER12-1711-001.

Applicants: High Plains Ranch II, LLC.

Description: High Plains Ranch II, LLC submits tariff filing per 35.17(b): Supplement to Application for Market-Based Rate Authority to be effective 6/25/2012.

Filed Date: 5/22/12.

Accession Number: 20120522-5139.

Comments Due: 5 p.m. ET 6/12/12.

Docket Numbers: ER12-1823-000.

Applicants: Southern California Edison Company.

Description: 2009-2010 CWIP ROE Compliance Filing to be effective 6/1/2010.

Filed Date: 5/21/12.

Accession Number: 20120521-5152.

Comments Due: 5 p.m. ET 6/11/12.

Docket Numbers: ER12-1825-000.

Applicants: EDF Industrial Power Services (CA), LLC.

Description: EDF Industrial Power Services (CA), LLC submits tariff filing per 35.12: Market-based Rate Schedule to be effective 5/22/2012.

Filed Date: 5/22/12.

Accession Number: 20120522-5128.

Comments Due: 5 p.m. ET 6/12/12.

Docket Numbers: ER12-1826-000.

Applicants: Kansas City Power & Light Company.

Description: Kansas City Power & Light Company submits tariff filing per 35.13(a)(2)(iii: RS 136, Joint Operating Agreement (GMO) to be effective 7/21/2012.

Filed Date: 5/22/12.

Accession Number: 20120522-5136.

Comments Due: 5 p.m. ET 6/12/12.

Take notice that the Commission received the following electric securities filings:

Docket Numbers: ES12-13-000.

Applicants: AEP Texas North Company.

Description: Second Supplemental Application under Section 204 of the Federal Power Act of AEP Texas North Company for Authorization to Issue Securities.

Filed Date: 5/22/12.

Accession Number: 20120522-5046.

Comments Due: 5 p.m. ET 6/1/12.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 22, 2012.
Nathaniel J. Davis, Sr.,
Deputy Secretary.

[FR Doc. 2012-13008 Filed 5-29-12; 8:45 am]

BILLING CODE 6717-01-P